DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Environmental Compliance Questionnaire for National Oceanic and Atmospheric Administration Federal Financial Assistance Applicants.

OMB Control Number: 0648-0538.

Form Number(s): None.

Type of Request: Regular (revision and extension of a currently approved information collection).

Number of Respondents: 1,000.

Average Hours per Response: One to three hours.

Burden Hours: 3,000.

Needs and Uses: This request is for a revision and extension of a currently approved information collection. The National Environmental Policy Act (“NEPA”; 42 U.S.C. 4321-4370) requires federal agencies to complete an environmental analysis for all major federal actions, including funding non-federal projects through federal financial assistance awards where Federal participation in the funded activity is expected to be significant. This Environmental Compliance Questionnaire for National Oceanic and Atmospheric Administration Federal Financial Assistance Applicants (Questionnaire) is used by the National Oceanic and Atmospheric Administration (NOAA) to collect information about proposed activities for NEPA and other environmental compliance requirements associated with proposed projects, such as federal consultations. The Questionnaire is used in conjunction with NOAA Funding Opportunity Announcements (FOA). Applicants are required to provide only the information from this Questionnaire that is specified in the FOA to which they are applying. The FOA may present these questions in one of two ways: (1) The applicable questions can be inserted directly into the FOA with reference to the OMB Control Number (0648-0538) for this form; or (2) The FOA can specify which questions (e.g. 1, 2) an applicant must answer, with the entire OMB-approved Questionnaire attached to the FOA. This Questionnaire has been revised to (1) remove repetitive questions; (2) revise specific questions to use plain language instead of NEPA-specific language; and (3) add questions that would be helpful to a wider range of NOAA programs. The revision reduced the overall number of questions by 22.

Affected Public: Individuals or households; business or other for-profit organizations; not-for-profit institutions; state, local, or tribal government; and federal government.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 1, 2015.
Sarah Brabson,
NOAA PRA Clearance Officer.

[FR Doc. 2015-25378 Filed 10-5-15; 8:45 am]

BILLING CODE 3510-NW-P